SMALL BUSINESS ADMINISTRATION

Audit and Financial Management Advisory (AFMAC) Committee Meeting

Pursuant to the Federal Advisory Committee Act, Appendix 2 of title 5, United States Code, Public Law 92-463, notice is hereby given that the U.S. Small Business Administration, Audit and Financial Management Advisory Committee (AFMAC) will host a federal public meeting on Wednesday, May 23, 2007 at 8 a.m. The meeting will take place at the U.S. Small Business Administration, 409 3rd Street, SW., Office of the Chief Financial Officer Conference Room, 6th Floor, Washington, DC 20416. The purpose of this meeting is to discuss the SBA's FY 2006 audit remediation, FY 2007 Financial Reporting, FY 2007 Credit Subsidy Modeling, A-123 Internal Control Program, Fraud Detection and Prevention Measures, Information System Security, Performance Management Framework, FY 2007 PAR Content and Production and FY 2007 Financial Audit.

Anyone wishing to attend must contact Jennifer Main in writing or by fax. Jennifer Main, Chief Financial Officer, 409 3rd Street, SW., 6th Floor, Washington, DC 20416, phone: (202) 205-6449, fax: (202) 205-6969, e-mail: Jennifer.main@sba.gov.

Matthew Teague,
Committee Management Officer.

[FR Doc. E7-9416 Filed 5-15-07; 8:45 am]

BILLING CODE 8025-01-P